FEDERAL RESERVE SYSTEM

Agency Information Collection Activities: Announcement of Board Approval Under Delegated Authority and Submission to OMB

AGENCY: Board of Governors of the Federal Reserve System

SUMMARY: Background.

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the OMB 83-I's and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Clearance Officer - Cindy Ayouch-Division of Research and Statistics, Board of Governors of the Federal Reserve System, Washington, DC 20551 (202-452-3829).

OMB Desk Officer-Joseph Lackey-Office of Information and Regulatory Affairs, Office of Management and Budget, New Executive Office Building, Room 10235, Washington, DC 20503.

Final approval under OMB delegated authority of the extension for three years, with revision, of the following reports:

1. Report title: Weekly Report of Assets and Liabilities for Large Banks; Weekly Report of Selected Assets.

Agency form number: FR 2416; FR 2644

OMB Control number: 7100-0075

Effective Date: June 2, 2004

Frequency: Weekly

Reporters: U.S.-chartered commercial banks

Annual reporting hours: FR 2416: 23,400 hours; FR 2644: 80,080 hours

Estimated average hours per response: FR 2416: 9.00 hours; FR 2644: 1.40 hours

Number of respondents: FR 2416: 50; FR 2644: 1,100

General description of report: These information collections are voluntary (12 U.S.C. § 225(a) and 248(a)(2)). Individual respondent data are regarded as confidential under the Freedom of Information Act (5 U.S.C. § 552(b)(4)).

2. Report title: Weekly Report of Assets and Liabilities for Large U.S. Branches and Agencies of Foreign Banks.

Agency form number: FR 2069

OMB Control number: 7100-0030

Effective Date: June 2, 2004

Frequency: Weekly

Reporters: U.S. branches and agencies of foreign banks

Annual reporting hours: 14,560 hours

Estimated average hours per response: 4.00 hours

Number of respondents: 70

General description of report: This information collection is voluntary (12 U.S.C. § 248(a)(2) and 3105(a)(2)). Individual respondent data are regarded as confidential under the Freedom of Information Act (5 U.S.C. § 552(b)(4)).

Abstract: The FR 2416, FR 2644, and the Weekly Report of Assets and Liabilities for Large U.S. Branches and Agencies of Foreign Banks (FR 2069; OMB No. 7100-0030) are referred to collectively as the bank credit reports. The FR 2416 is a detailed balance sheet that covers domestic offices of large U.S.-chartered commercial banks. The FR 2644 collects less-detailed information on investments, loans, total assets, and several memoranda items, covering domestic offices of small U.S.-chartered commercial banks. The FR 2069 is a detailed balance sheet that covers large U.S. branches and agencies of foreign banks. The bank credit reports are collected as of each Wednesday.

These three voluntary reports are mainstays of the Federal Reserve's reporting system from which data for analysis of current banking developments are derived. The FR 2416 is used on a stand-alone basis as the “large domestic bank series.” The FR 2644 collects sample data, which are used to estimate universe levels using data from the quarterly commercial bank Consolidated Reports of Condition and Income (FFIEC 031 and 041; OMB No. 7100-0036) (Call Report). Data from the bank credit reports, together with data from other sources, are used for constructing weekly estimates of bank credit, of sources and uses of bank funds, and of a balance sheet for the banking system as a whole.

The Federal Reserve publishes the data in aggregate form in the weekly H.8 statistical release, Assets and Liabilities of Commercial Banks in the United States, which is followed closely by other government agencies, the banking industry, the financial press, and other users. This release provides a balance sheet for the banking industry as a whole and data disaggregated by its large domestic, small domestic, and foreign-related components.

Current actions: Federal Reserve has approved the proposed changes to the FR 2416: (1) Split other assets into two items, (2) split other liabilities into two items, and (3) combine three memoranda items breaking out U.S. Treasury securities. The Federal Reserve has approved the proposed changes to the FR 2644: (1) Split other loans secured by real estate into two items, (2) add an item for net due from own foreign offices, and (3) add an item for net due to own foreign offices. The Federal Reserve has approved the proposed changes to the FR 2069: (1) Combine items for federal funds purchased with banks and other borrowed money owed to banks and (2) combine items for federal funds purchased with others and other borrowed money owed to others.

These proposed changes to the FR 2416, FR 2644, and FR 2069 will be effective with the reports for June 2, 2004.

Board of Governors of the Federal Reserve System, March 19, 2004.
Jennifer J. Johnson,
Secretary of the Board.

[FR Doc. 04-6693 Filed 3-24-04; 8:45 am]

BILLING CODE 6210-01-S